DEPARTMENT OF ENERGY

Office of Science; DOE/NSF Nuclear Science Advisory Committee; Renewal

Pursuant to Section 14(a)(2)(A) of the Federal Advisory Committee Act and in accordance with Title 41 of the Code of Federal Regulations, Section 102-3.65, and following consultation with the Committee Management Secretariat, General Services Administration, notice is hereby given that the DOE/NSF Nuclear Science Advisory Committee has been renewed for a two-year period, beginning in October 2003. The Committee will provide advice to the Director of the Office of Science (DOE), and the Assistant Director, Mathematical and Physical Sciences Directorate (NSF), on scientific priorities within the field of basic nuclear science research. The Secretary of Energy has determined that renewal of the Committee is essential to conduct business of the Department of Energy and the National Science Foundation and is in the public interest in connection with the performance of duties imposed by law upon the Department of Energy. The Committee will continue to operate in accordance with the provisions of the Federal Advisory Committee Act, the Department of Energy Organization Act (Public Law 95-91), and implementing regulations.

Further information regarding this advisory committee can be obtained from Ms. Rachel Samuel at (202) 586-3279.

Issued in Washington, DC, on October 23, 2003.
James N. Solit,
Advisory Committee Management Officer.

[FR Doc. 03-27231 Filed 10-28-03; 8:45 am]

BILLING CODE 6450-01-P